DEPARTMENT OF THE INTERIOR

Fish and Wildlife Service

Recovery Plan for the Chittenango Ovate Amber Snail

AGENCY: Fish and Wildlife Service, Interior.

ACTION: Notice of document availability: final revised recovery plan.

SUMMARY: We, the Fish and Wildlife Service (Service), announce availability of a final revised recovery plan for the endangered Chittenango ovate amber snail (Novisuccinea chittenangoensis). The final plan incorporates comments received during the public and peer review period and updates the objectives, criteria, and actions for recovering this endangered species.

ADDRESSES: A copy of the revised plan may be requested by contacting the Fish and Wildlife Service's New York Field Office (NYFO), 3817 Luker Road, Cortland, New York 13045. Copies will also be available for downloading from the NYFO's Web site at http://www.fws.gov/northeast/nyfo/es/recoveryplans.htm, and from the Service's Endangered Species Web site at http://www.fws.gov/endangered/recovery/index.html.

FOR FURTHER INFORMATION CONTACT: Ms. Robyn Niver, U.S. Fish and Wildlife Service, at the above address or by telephone at 607-753-9334.

SUPPLEMENTARY INFORMATION:

Background

Restoring an endangered or threatened animal or plant to the point where it is again a secure, self-sustaining member of its ecosystem is a primary goal of the Service's endangered species program. To help guide the recovery effort, the Service is working to prepare recovery plans for most of the Federally listed species native to the United States. Recovery plans describe actions necessary for the conservation of the species, establish criteria which, when met, would result in a determination that the species no longer needs the protection of the Endangered Species Act of 1973, as amended (16 U.S.C. 1531 et seq.) (Act), and provide estimates of the time and cost for implementing the needed recovery measures.

The Act requires recovery plans for listed species unless such a plan would not promote the conservation of a particular species. Section 4(f) of the Act, as amended in 1988, requires that public notice and opportunity for public review and comment be provided during recovery plan development. A final rule listing the Chittenango ovate amber snail (Novisuccinea chittenangoensis) as threatened was published in the Federal Register on July 3, 1978 (43 FR 28932), and became effective on August 2, 1978. The initial recovery plan for the species was completed in March 1983 (Riexinger, P., J. Proud, T. Lyons, and D. Sulitka. 1983. Chittenango ovate amber snail recovery plan. Region 5, U.S. Fish and Wildlife Service Report, in cooperation with the Chittenango Ovate Amber Recovery Team. March 24, 1983). A draft recovery plan revision was prepared and issued for the species in 2003.

Issuance of the draft revised plan included a notice of availability and opportunity for public comment (68 FR 68102, December 5, 2003) and other public notification efforts. Pertinent information received by the Service during the public comment period has been considered in preparation of the final revised recovery plan and is summarized in an appendix to the plan. This information will also be taken into account in the course of implementing recovery actions. In addition, new information on population status and genetics that has become available since publication of the draft in 2003 has informed the final plan with a better understanding of the snail's distribution within its sole population, and has alleviated concerns about possible hybridization between Novisuccinea chittenangoensis and an introduced snail occupying the same habitat. The new information has resulted in only a slight shift in the recovery strategy for this species, which continues to be highly imperiled.

Since its discovery in 1905, only one extant N. chittenangoensis colony has been verified, from a site within the Chittenango Falls State Park in Madison County, New York. The Chittenango ovate amber snail is a terrestrial species that requires the cool, mild-temperature, moist conditions provided by the waterfalls and mist in its environment. Its habitat lies within a ravine at the base of a 167-foot waterfall, and the ledges where it is found comprise an early successional sere that is periodically rejuvenated to a bare substrate by floodwaters. The species requires a substrate rich in calcium carbonate and appears to prefer green vegetation such as the various mosses, liverworts, and other low herbaceous vegetation found within the spray zone adjacent to the falls. Clean water may be necessary to maintain essential habitat, although water quality may have only an indirect effect on the snail.

The Chittenango ovate amber snail was listed due to its rarity and population decline. Since listing, habitat protection and captive propagation measures have been implemented. Unfortunately, the captive propagation efforts to date have been unsuccessful, and the species' status remains exceedingly precarious. The primary continuing threats to the snail are its small population size and limited distribution as well as an undefined negative interaction with an introduced snail, Succinea sp. B. Additionally, potential threats persist from habitat changes and inadvertent human disturbance.

The final revised recovery plan includes updated scientific information about the Chittenango ovate amber snail and identifies research and management actions needed to conserve and recover species within its ecosystem. The recovery goal for the snail is to achieve long-term viability of the species in the wild, thereby allowing it to be taken off the Federal List of Endangered and Threatened Wildlife. The initial recovery objective is to stabilize the extant population at Chittenango Falls. Two necessary conditions for stabilization are maintaining (or increasing) the baseline population size of the natural colony and maintaining multiple captive populations of N. chittenangoensis. Achievement of the first condition will entail habitat management planning and research into the species' biological requirements and possible means of controlling the competing Succinea sp. B. In addition to securing the in situ conditions necessary to stabilize the natural population, captive propagation should be reinitiated in accordance with a newly established propagation protocol to safeguard against extinction of this species.

If and when stabilization of the extant N. chittenangoensis population at Chittenango Falls has been achieved, progress toward full recovery of the species can commence. This will include augmentation of the population at the Falls, searching for other possible extant populations, long-term maintenance of captive populations, and investigating the feasibility of initiating a population of N. chittenangoensis at an alternative location. The plan includes criteria for determining when the objectives of stabilization and full recovery have been met.

Author: Mary Parkin, Recovery Coordinator, Endangered Species Program, Fish and Wildlife Service, Region 5.

Authority: The authority for this action is section 4(f) of the Endangered Species Act, 16 U.S.C. 1533(f).

Dated: July 27, 2006.
Michael G. Thabault,
Acting Regional Director, Region 5, U.S. Fish and Wildlife Service.

[FR Doc. E6-13717 Filed 8-18-06; 8:45 am]

BILLING CODE 4310-55-P